ENVIRONMENTAL PROTECTION AGENCY

[AZ099-NOA; FRL-7546-7]

Clean Air Act Operating Permit Program; Petition for Objection to State Operating Permit for Harquahala Generating Station

AGENCY: Environmental Protection Agency (EPA).

ACTION: Notice of final order denying petition to object to state operating permit.

SUMMARY: Pursuant to Clean Air Act section 505(b)(2), the EPA Administrator is hereby denying a petition to object to a state operating permit issued by the Maricopa County Environmental Services Division to the Harquahala Generating Station. This order constitutes final action on the petition submitted by Don't Waste Arizona (DWA). Pursuant to section 505(b)(2) of the Clean Air Act (Act), petitioner may seek judicial review in the United States Court of Appeals for the appropriate circuit within 60 days of this decision under section 307 of the Act.

ADDRESSES: Copies of the final order, the petition and all pertinent information relating thereto are on file at the following location: Environmental Protection Agency, Region IX, Air Division, 75 Hawthorne Street, San Francisco, CA 94105. The final order is also available electronically at the following address: http://www.epa.gov/region07/programs/artd/air/title5/petitiondb/petitions/harquahala_decision2001.pdf.

FOR FURTHER INFORMATION CONTACT: Emmanuelle Rapicavoli, Air Permits Office, EPA Region IX, telephone (415) 972-3969, e-mail rapicavoli.emmanuelle@epa.gov. Interested parties may also contact the Maricopa Environmental Services Division, Air Quality Division, 1001 North Central Avenue, Suite 201, Phoenix, AZ 85004.

SUPPLEMENTARY INFORMATION: The Clean Air Act affords EPA the opportunity for a 45-day period to review, and object to as appropriate, operating permits proposed by State permitting authorities. Section 505(b)(2) of the Act and 40 CFR 70.8(d) authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

DWA submitted a petition to the Administrator on March 20, 2001, seeking EPA's objection to the operating permit issued to the Harquahala Generating Station. The petitioner maintained that the Harquahala Generating Station operating permit was inconsistent with the Act because the permit failed to: (1) Meet federal requirements for an excess emission affirmative defense provision, namely Condition 10 of the Permit; (2) include best available control technology (BACT) emission limits for nitrogen oxides (NOX), carbon monoxides (CO), volatile organic compounds (VOC), and particulate matter (PM10); (3) require an updated BACT analysis during the permit renewal period; (4) use an appropriate substitute method for calculating startup and shutdown emissions when the continuous emissions monitors (CEMs) for NOX and CO are not operational; (5) require sufficient opacity monitoring to assure compliance with certain opacity requirements; (6) require an operations and maintenance plan for selective catalytic reduction (SCR) pollution control technology to be submitted before startup of the equipment; (7) include a review of the toxic effects of ammonium sulfate formed as a result of the proposed BACT (in this case, SCR); and (8) be responsive to public comments regarding PSD issues.

The Administrator issued an order denying this petition on July 2, 2003. The order explains the reasons behind EPA's conclusion that petitioner failed to demonstrate that the issuance of the Harquahala Generating Station permit was not in compliance with requirements of the Clean Air Act on the grounds raised.

Dated: August 6, 2003.
Deborah Jordan,
Acting Regional Administrator, Region 9.

[FR Doc. 03-21350 Filed 8-19-03; 8:45 am]

BILLING CODE 6560-50-P